DEPARTMENT OF TRANSPORTATION

Federal Railroad Administration

[Docket Number FRA-2015-0094]

Petition for Waiver of Compliance

In accordance with part 211 of Title 49 Code of Federal Regulations (CFR), this document provides the public notice that by a document dated August 20, 2015, the Twin Cities & Western Railroad (TCWR) has petitioned the Federal Railroad Administration (FRA) for a waiver of compliance from certain provisions of the Federal railroad safety regulations contained at 49 CFR 223.11—Requirements for existing locomotives. FRA assigned the petition Docket Number FRA-2015-0094.

TCWR has petitioned FRA to grant a waiver of compliance from 49 CFR part 223—Safety Glazing Standards, for one locomotive, TCWR 1207, which requires certified glazing in all windows. The subject locomotive is a recent purchase by TCWR. It is an Electro-Motive Diesel (EMD) SW1200 diesel switcher locomotive built by General Motors' EMD Division. Its windows do not have the proper safety glazing as required by 49 CFR part 223. Even though the locomotive is presently used as a switching unit, TCWR wants to equip this unit with ditch lights, an alerter, and other safety features to allow it to be used as a main line unit. As such, the TCWR is requesting a glazing waiver to place this unit into main line service.

TCWR is a Class III rail carrier based in Glencoe, MN. The railroad uses 294 miles of track in Minnesota and another 49 miles of track in South Dakota interchanging with Class I railroads (Canadian Pacific Railway, Union Pacific Railroad, BNSF Railway and Canadian National Railway) in the Twin Cities. TCWR is a key player in the economic health of western Minnesota and eastern South Dakota by moving goods and commodities from production/processing/shipping facilities of more than 50 shippers, 6 days per week, along its line. TCWR personnel have responsibility for day-to-day inspection and maintenance of the railroad track.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, excluding Federal Holidays.

Communications received by November 16, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on September 28, 2015.
Ron Hynes,
Director, Office of Technical Oversight.

[FR Doc. 2015-25007 Filed 10-1-15; 8:45 am]

BILLING CODE 4910-06-P